DEPARTMENT OF TRANSPORTATION

Federal Aviation Administration

Third Meeting: RTCA Special Committee 210, Cabin Management Systems

AGENCY: Federal Aviation Administration (FAA), DOT.

ACTION: Notice of RTCA Special Committee 210, Cabin Management System.

SUMMARY: The FAA is issuing this notice to advise the public of a meeting of RTCA Special Committee 210, Cabin Management.

DATES: The meeting will be held August 1-2, 2007 from 9-5 p.m.

ADDRESSES: The meeting will be held at RTCA, Inc., 1828 L Street, NW., Suite 805, Washington, DC 20036, ARINC & Garmin Rooms.

FOR FURTHER INFORMATION CONTACT: (1) RTCA Secretariat, 1828 L Street, NW., Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given or a Special Committee 210, Cabin Management Systems meeting. The agenda will include:

• August 1:

• Opening Plenary Session (Welcome, Introductions, and Administrative Remarks).

• New FAA Representative for SC-210.

• Approval of Summary of the Second held May 9-10, 2007, RTCA Paper No. 128-07/SC210-005.

• Overall direction for Working Group.

• Closed Plenary Meeting.

• Break-up for Specific Working Group Sessions.

• Working Group 1, Document Review/Assessment, Garmin Room.

• Working Group 2, Cabin Management Function Classification, ARINC Room.

• Working Group 3, Commercial off-the-Shelf (COTS) Assessment, Small Conf. Room.

• August 2:

• Continue Specific Working Group Session.

• Convene to Continue Plenary Meeting.

• Terms of Reference—Review Status.

• Review Working Group (WG) Progress and Identify Issues for Resolution.

• WG-1, Document Review/Assessment.

• WG-2, Cabin Management Function Classification.

• WG-3, Commercial off-the-Self (COTS) Assessment.

• Discussion of document creation and text writing assignments.

• Document Structure/Review.

• Assignment of Responsibilities.

• Closing Plenary Session (Other Business, Establish Agenda for Next Meeting, Date, and Place of Next Meeting, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on July 3, 2007.
Francisco Estrada C.,
RTCA Advisory Committee.

[FR Doc. 07-3610 Filed 7-23-07; 8:45 am]

BILLING CODE 4910-13-M